DEPARTMENT OF LABOR

Employment and Training Administration

[TA-W-55,247]

Clifford Tools and Manufacturing Co., Chatsworth, CA; Notice of Termination of Investigation

Pursuant to section 221 of the Trade Act of 1974, as amended, an investigation was initiated on July 14, 2004, in response to a petition filed by a state workforce representative on behalf of workers at Clifford Tools and Manufacturing Company, Chatsworth, California.

The petitioner has requested that the petition be withdrawn. Consequently, the investigation has been terminated.

Signed at Washington, DC, this 16th day of July, 2004.
Elliott S. Kushner,
Certifying Officer, Division of Trade Adjustment Assistance.

[FR Doc. 04-17606 Filed 8-2-04; 8:45 am]

BILLING CODE 4510-30-P